FEDERAL HOUSING FINANCE BOARD

Sunshine Act Meeting Notice; Announcing an Open Meeting of the Board of Directors

Time and Date: The meeting of the Board of Directors is scheduled to begin at 10 a.m. on Wednesday, January 14, 2004.

Place: Board Room, Second Floor, Federal Housing Finance Board, 1777 F Street, NW., Washington, DC 20006.

Status: The entire meeting will be open to the public.

Matters to be Considered: Capital Plan Amendment for the Federal Home Loan Bank of Atlanta. Consideration of an amendment to reorganize the Atlanta Bank capital plan to provide more detail on certain current procedures and make other changes.

Appointment of Federal Home Loan Bank Directors. Section 7 of the Federal Home Loan Bank Act (12 U.S.C. 1427) requires the agency to appoint public interest directors to the boards of directors of the Federal Home Loan Banks.

FOR FURTHER INFORMATION CONTACT: Mary Gottlieb, Paralegal Specialist, Office of General Counsel, by telephone at (202) 408-2826 or by electronic mail at gottliebm@fhfb.gov.

Dated: January 6, 2004.
By the Federal Housing Finance Board.
Arnold Intrater,
General Counsel.

[FR Doc. 04-478 Filed 1-6-04; 2:27 pm]

BILLING CODE 6725-01-P